NATIONAL SCIENCE FOUNDATION

Advisory Panel for Integrative Activities; Notice of Meeting

In accordance with the Federal Advisory Committee Act (Pub. L. 92-463 as amended), the National Science Foundation announces the following meeting:

Name: Advisory Panel for Integrative Activities (#1373).

Dates & Times: November 14, 2007—1 p.m.-5:30 p.m.; November 15, 2007—8 a.m.-4:30 p.m.; November 16, 2003—7:30 a.m.-12:30 p.m.

Places:

Hilton Arlington Hotel, 950 North Stafford Street, Arlington, Virginia.

Science and Technology Policy Institute (STPI), 1899 Pennsylvania Ave, NW., Washington, DC.

Office of Science and Technology Policy (OSTP), Old Executive Office Building, Washington, DC.

Type of Meeting: Part-Open.

Contact Person: Connie Della-Piana, PhD. Office of Integrative Activities, Office of the Director, Room 1270, National Science Foundation, 4201 Wilson Blvd., Arlington, VA 22230. Telephone: 703/292-8040.

Purpose of Meeting: To provide advice and recommendations concerning the use of and need for the Science and Technology Policy Institute.

Agenda

Wednesday, November 14, 2007

1 p.m.-4 p.m. Hilton Arlington Hotel. Open—Overview and history of Federally Funded Research and Development Center (FFRDC); Briefings and Panel Discussions.

4:30 p.m.-5:30 p.m. Hilton Arlington, Hotel. Closed—Review of contract.

Thursday, November 15, 2007

8 a.m.-9 p.m. Hilton Arlington Hotel. Open—Briefings and Panel Discussions with Deputy Director, NSF.

9:30 a.m.-12n Science and Technology Policy Institute. Open—Presentations and briefing by STPI.

12n-2 p.m. Science and Technology Policy Institute. Closed—Review and evaluation of the use and need for the Institute.

2:30 p.m.-4:30 p.m. Office of Science and Technology Policy. Closed—Briefings and discussions with OSTP representatives.

Friday, November 16, 2007

8 a.m.-1:30 p.m. Hilton Arlington Hotel. Closed—Meetings with NSF representatives and other government clients. Review and prepare report.

Reason for Closing: The contract being reviewed includes information of a proprietary or confidential nature, including technical information; financial data, such as salaries; and personal information concerning individuals associated with the contract. Discussions will include the development of negotiating and implementing strategies. These matters are exempt under 5 U.S.C. 552b(c), (4) and (6) and (9)(B) of the Government in the Sunshine Act.

Dated: October 23, 2007.
Susanne Bolton,
Committee Management Officer.

[FR Doc. E7-21164 Filed 10-25-07; 8:45 am]

BILLING CODE 7555-01-P